NUCLEAR REGULATORY COMMISSION

Atomic Safety and Licensing Board

[Docket No. 70-3103-ML; ASLBP No. 04-826-01-ML]

Memorandum and Order; Notice of Hearing and of Opportunity To Make Oral or Written Limited Appearance Statements

January 7, 2005.

In the Matter of Louisiana Energy Services, L.P., (National Enrichment Facility); Before Administrative Judges: G. Paul Bollwerk, III, Chairman, Dr. Paul B. Abramson, Dr. Charles N. Kelber.

The Atomic Safety and Licensing Board hereby gives notice that it will convene an evidentiary hearing to receive testimony and exhibits and allow the cross-examination of witnesses relating to certain matters at issue in this proceeding regarding the December 2003 application of Louisiana Energy Services, L.P., (LES) for a license under 10 CFR part 70 to construct and operate a uranium enrichment facility—the National Enrichment Facility (NEF)—to be constructed near Eunice, New Mexico. In addition, the Board gives notice that, in accordance with 10 CFR 2.315(a), it will entertain oral limited appearance statements from members of the public in connection with this proceeding.

A. Date, Time, and Location of Evidentiary Hearing

The Board will conduct an evidentiary hearing on certain environmental contentions (ECs) relating to this proceeding, currently scheduled to include contentions NIRS/PC EC-1—Impacts upon Ground and Surface Water; NIRS/PC EC-2—Impact upon Water Supplies; NIRS/PC EC-4—Impacts of Waste Storage; NIRS/PC EC-7—Need for the Facility, beginning on Monday, February 7, 2005, at 9:30 a.m., in the Lea County Event Center, 5101 Lovington Highway, Hobbs, New Mexico. The hearing on these issues will continue day-to-day until concluded.

The public is advised that, in accordance with 10 CFR 2.390, part of the sessions regarding each of the contentions may be closed to the public because the matters at issue may involve the discussion of protected information.

B. Date, Time, and Location of Oral Limited Appearance Statement Sessions

These sessions will be on the following date at the specified location and times:

1. Date: Saturday, February 12, 2005; Time: Morning Session (if there is sufficient interest)—10 a.m. to noon mountain standard time (m.s.t.).; Location: Eunice Community Center, 1115 Avenue I, Eunice, New Mexico.

2. Date: Saturday, February 12, 2005; Time: Afternoon Session (if there is sufficient interest)—2 to 4 p.m. m.s.t.; Location: Same as Session 1 above.

C. Participation Guidelines for Oral Limited Appearance Statements

Any person not a party, or the representative of a party, to the proceeding will be permitted to make an oral statement setting forth his or her position on matters of concern relating to this proceeding. Although these statements do not constitute testimony or evidence, they nonetheless may help the Board and/or the parties in their consideration of the issues in this proceeding.

Oral limited appearance statements will be entertained during the hours specified above, or such lesser time as may be necessary to accommodate the speakers who are present.¹ In this regard, if all scheduled and unscheduled speakers present at a session have made a presentation, the Licensing Board reserves the right to terminate the session before the ending times listed above. The Licensing Board also reserves the right to cancel the Saturday morning and/or afternoon sessions scheduled above if there has not been a sufficient showing of public interest as reflected by the number of preregistered speakers.

¹ Any members of the public who plan to attend either the evidentiary hearings or the limited appearance sessions are strongly advised to arrive early to allow time to pass through any security measures that may be employed. Attendees are also requested not to bring any unnecessary hand-carried items, such as packages, briefcases, backpacks, or other items that might need to be examined individually. Items that could readily be used as weapons will not be permitted in the rooms where these sessions will be held. Also, during these sessions, signs no larger than 18″ by 18″ will be permitted, but may not be attached to sticks, held up, or moved about in the rooms.

The time allotted for each statement normally will be no more than five minutes, but may be further limited depending on the number of written requests to make an oral statement that are submitted in accordance with section D below and/or the number of persons present at the designated times. In addition, although an individual may request an opportunity to speak at more than one session, the Licensing Board reserves the right to defer an additional presentation by the same individual until after it has heard from speakers who have not had an opportunity to make an initial presentation.

Finally, the Board anticipates holding additional oral limited appearance statement sessions in the Hobbs, New Mexico area in conjunction with the evidentiary hearings currently scheduled for October and November 2005. The Board will make further information regarding those sessions available as the time for those hearings draws near.

D. Submitting a Request To Make an Oral Limited Appearance Statement

Persons wishing to make an oral statement who have submitted a timely written request to do so will be given priority over those who have not filed such a request. To be considered timely, a written request to make an oral statement must either be mailed, faxed, or sent by e-mail so as to be received by noon e.s.t. on Thursday, February 3, 2005. The request must specify the session (morning or afternoon) during which the requester wishes to make an oral statement. Based on its review of the requests received by February 3, 2005, the Licensing Board may decide that the Saturday morning and/or afternoon sessions will not be held due to a lack of adequate interest in those sessions.

Written requests to make an oral statement should be submitted to:

Mail: Office of the Secretary, Rulemakings and Adjudications Staff, U.S. Nuclear Regulatory Commission, Washington, DC 20555-0001.

Fax: (301) 415-1101 (verification (301) 415-1966).

E-mail: hearingdocket@nrc.gov.

In addition, using the same method of service, a copy of the written request to make an oral statement should be sent to the Chairman of this Licensing Board as follows:

Mail: Administrative Judge G. Paul Bollwerk, III, Atomic Safety and Licensing Board Panel, Mail Stop T-3F23, U.S. Nuclear Regulatory Commission, Washington, DC 20555-0001.

Fax: (301) 415-5599 (verification (301) 415-7405).

E-mail: ksv@nrc.gov and gpb@nrc.gov.

E. Submitted Written Limited Appearance Statements

A written limited appearance statement may be submitted to the Board regarding this proceeding at any time. Such statements should be sent to the Office of the Secretary using one of the methods prescribed above, with a copy to the Licensing Board Chairman.

F. Availability of Documentary Information Regarding the Proceeding

Documents relating to this proceeding are available for public inspection at the Commission's Public Document Room (PDR), located at One White Flint North, 11555 Rockville Pike (first floor), Rockville, Maryland, or electronically from the publicly available records component of NRC's document system (ADAMS). ADAMS is accessible from the NRC Web site at http://www.nrc.gov/reading-rm/adams.html (the Public Electronic Reading Room).² Persons who do not have access to ADAMS or who encounter problems in accessing the documents located in ADAMS should contact the NRC PDR reference staff by telephone at (800) 397-4209 or (301) 415-4737, or by e-mail to pdr@nrc.gov.

² Some documents determined to contain “sensitive” are publicly available only in redacted form; non-sensitive documents are publicly available in their complete form.

G. Scheduling Information Updates

Any updated/revised scheduling information regarding the evidentiary hearing and limited appearance sessions can be found on the NRC Web site at http://www.nrc.gov/public-involve/public-meetings/index.cfm or by calling (800) 368-5642, extension 5036, or (301) 415-5036.

It is so ordered.

Dated: January 7, 2005, Rockville, Maryland.
For the Atomic Safety and Licensing Board.³
³ Copies of this memorandum and order were sent this date by Internet e-mail transmission to counsel for (1) applicant Louisiana Energy Services, Inc.; (2) intervenors New Mexico Environment Department, the Attorney General of New Mexico, and Nuclear Information and Resource Service/Public Citizen; and (3) the NRC staff.
G. Paul Bollwerk III,
Administrative Judge.

[FR Doc. 05-691 Filed 1-12-05; 8:45 am]

BILLING CODE 7590-01-P